DEPARTMENT OF COMMERCE

Foreign-Trade Zones Board [S-6-2018]

Approval of Expansion of Subzone 98D; Hyster-Yale Group, Inc.; Sulligent, Alabama

On January 10, 2018, the Executive Secretary of the Foreign-Trade Zones (FTZ) Board docketed an application submitted by the City of Birmingham, grantee of FTZ 98, requesting an expansion of Subzone 98D on behalf of Hyster-Yale Group, Inc., to include an additional site in Sulligent, Alabama. The existing subzone and the proposed site would be subject to the existing activation limit of FTZ 98.

The application was processed in accordance with the FTZ Act and Regulations, including notice in the Federal Register inviting public comment (83 FR 2424, January 17, 2018). The FTZ staff examiner reviewed the application and determined that it meets the criteria for approval. Pursuant to the authority delegated to the FTZ Board Executive Secretary (15 CFR Sec. 400.36(f)), the application to expand Subzone 98D was approved on May 1, 2018, subject to the FTZ Act and the Board's regulations, including Section 400.13, and further subject to FTZ 98's 611.80-acre activation limit.

Dated: May 3, 2018.
Andrew McGilvray,
Executive Secretary.

[FR Doc. 2018-09759 Filed 5-7-18; 8:45 am]

BILLING CODE 3510-DS-P